DEPARTMENT OF TRANSPORTATION

Research and Special Programs Administration

[Docket No. RSPA-04-19091; Notice 1]

Pipeline Safety: Petition for Waiver; Tuscarora Gas Transmission Company

AGENCY: Research and Special Programs Administration (RSPA), U.S. Department of Transportation (DOT).

ACTION: Notice; Petition for Waiver.

SUMMARY: Tuscarora Gas Transmission Company has petitioned the Research and Special Programs Administration, Office of Pipeline Safety (RSPA/OPS) for a waiver of the pipeline safety regulation that requires each onshore gas transmission pipeline in a Class 1 location to have sectionalizing block valves spaced at a maximum distance of 20 miles.

DATES: Persons interested in submitting written comments on the waiver request described in this notice must do so by November 26, 2004. Late filed comments will be considered so far as practicable.

ADDRESSES: You may submit written comments by mailing or delivering an original and two copies to the Dockets Facility, U.S. Department of Transportation, Room PL-401, 400 Seventh Street, SW., Washington, DC 20590-0001. The Dockets Facility is open from 10 a.m. to 5 p.m., Monday through Friday, except on Federal holidays when the facility is closed. Alternatively, you may submit written comments to the docket electronically at the following Web address: http://dms.dot.gov.

All written comments should identify the docket and notice numbers stated in the heading of this notice. Anyone who wants confirmation of mailed comments must include a self-addressed stamped postcard. To file written comments electronically, after logging on to http://dms.dot.gov, click on “Comment/Submissions.” You can also read comments and other material in the docket. General information about the Federal pipeline safety program is available at http://ops.dot.gov.

Anyone is able to search the electronic form of all comments received into any of our dockets by the name of the individual submitting the comment (or signing the comment if submitted on behalf of an association, business, labor union, etc.). You may review DOT's complete Privacy Act Statement in the Federal Register published on April 11, 2000 (volume 65, number 70; pages 19477-78), or you may visit http://dms.dot.gov.

FOR FURTHER INFORMATION CONTACT: James Reynolds by phone at 202-366-2786, by fax at 202-366-4566, by mail at DOT, RSPA, Office of Pipeline Safety, 400 7th Street, SW., Washington, DC 20590, or by e-mail at james.reynolds@rspa.dot.gov.

SUPPLEMENTARY INFORMATION: The pipeline safety regulations at 49 CFR 192.179 require that each point on an onshore gas pipeline in a Class 1 location must be within 10 miles of a sectionalizing block valve, unless in a particular case the RSPA Administrator finds that alternative spacing would provide an equivalent level of safety. This means that the distance between valves in a Class 1 location may not exceed 20 miles. During a recent review of its records, Tuscarora Gas Transmission Company (Tuscarora) discovered that during construction the upstream portions of its pipeline in Lassen County, California, were slightly re-routed to avoid a sensitive environmental habitat. As a result, the spacing between main line valves MLV-8 and MLV-9 exceeds the 20 mile maximum distance by 1,065 feet. Tuscarora requested a waiver of valve spacing requirement at § 192.179 for this line section.

In support of its waiver request, Tuscarora submitted the following:

• The affected valve is located adjacent to an existing dirt roadway, providing ease of access.

• All mainline block valves on the Tuscarora system are equipped with automatic line break detection and automatic closure devices.

• The design, installation, and maintenance of the pipeline is in full compliance with 49 CFR part 192.

• The pipeline was constructed and placed in service in 1995 and is protected by an impressed current cathodic protection system.

• The pipeline segment from MLV-8 to MLV-10 is designed, operated, and maintained to Class 1 requirements in accordance with 49 CFR part 192.

• Tuscarora's Gas Control Center continuously monitors conditions on the pipeline.

• Operator response time to this area is less than one hour from the time of detection and notification.

Tuscarora's waiver request is available for review in the docket. RSPA/OPS is seeking comments on the waiver request. After the comment period has ended, RSPA/OPS will consider Tuscarora's waiver request and any public comments on the issues raised in its waiver request. RSPA/OPS' decision to grant or deny the waiver will be published in the Federal Register.

Authority: 49 U.S.C. 60118 (c) and 49 CFR 1.53.

Issued in Washington, DC on October 19, 2004.
Stacey L. Gerard,
Associate Administrator for Pipeline Safety.

[FR Doc. 04-23882 Filed 10-25-04; 8:45 am]

BILLING CODE 4910-60-P